DEPARTMENT OF HEALTH AND HUMAN SERVICES

Food and Drug Administration

[Docket No. FDA-2024-N-1940]

Request for Nominations of a Nonvoting Representative of the Interest of Tobacco Growers on the Tobacco Products Scientific Advisory Committee

AGENCY: Food and Drug Administration, HHS.

ACTION: Notice.

SUMMARY: The Food and Drug Administration (FDA) is requesting nominations for a nonvoting representative of the interests of the tobacco growers to serve on the Tobacco Products Scientific Advisory Committee (TPSAC), in the Center for Tobacco Products. FDA seeks to include the views of women and men, members of all racial and ethnic groups, and individuals with and without disabilities on its advisory committees and, therefore encourages nominations of appropriately qualified candidates from these groups. A nominee may either be self-nominated or nominated by an organization. In addition, FDA is requesting that any industry organizations interested in participating in the selection of a nonvoting representative of the interests of the tobacco growers industry to serve on the TPSAC, notify FDA in writing. Nominations will be accepted for either the representative to serve on TPSAC or for the selection group effective with this notice.

DATES: Nomination materials for prospective candidates should be sent to FDA by June 3, 2024. Concurrently, any industry organization interested in participating in the selection of an appropriate nonvoting member to represent the interests of the tobacco growers industry must send a letter stating that interest to FDA by June 3, 2024 (see sections I and II of this document for further details).

ADDRESSES: All nominations for nonvoting representatives of the interests of the tobacco growers industry may be submitted electronically by accessing the FDA Advisory Committee Membership Nomination Portal: https://www.accessdata.fda.gov/scripts/FACTRSPortal/FACTRS/index.cfm.

All statements of interest from industry organizations interested in participating in the selection process of nonvoting representatives of the interests of the tobacco growers industry nomination should be sent to Serina Hunter-Thomas (see FOR FURTHER INFORMATION CONTACT).

FOR FURTHER INFORMATION CONTACT: Serina Hunter-Thomas, Office of Science, Center for Tobacco Products, Food and Drug Administration, Document Control Center, Bldg. 71, Rm. G335, 10903 New Hampshire Ave., Silver Spring, MD 20993-0002, 1-877-287-1373 (choose Option 5), email: Serina.Hunter-Thomas@fda.hhs.gov.

Information about becoming a member of an FDA advisory committee can also be obtained by visiting FDA's website at: http://www.fda.gov/AdvisoryCommittees/default.htm.

SUPPLEMENTARY INFORMATION: FDA is requesting nominations for a nonvoting representative of the interests of the tobacco growers industry on the TPSAC.

I. General Description of the Committee Duties

The TPSAC advises the Commissioner of Food and Drugs (the Commissioner) or designee in discharging responsibilities related to the regulation of tobacco products. The TPSAC reviews and evaluates safety, dependence, or health issues relating to tobacco products and provides appropriate advice, information, and recommendations to the Commissioner.

II. Nomination Procedure

Individuals may self-nominate and/or an organization may nominate one or more individuals to serve as a nonvoting representative of the interests of the tobacco growers industry. Nominations must include a current résumé or curriculum vitae for each nominee, including current business address and/or home address, telephone number, and email address if available. Nominations must specify the advisory committee for which the nominee is recommended. Nominations must also acknowledge that the nominee is aware of the nomination unless self-nominated. The nomination should be sent to the FDA Advisory Committee Membership Nomination Portal (see ADDRESSES) within 30 days of publication of this document (see DATES). FDA will forward all nominations to the organizations expressing interest in participating in the selection process. (Persons who nominate themselves as nonvoting industry representatives will not participate in the selection process.)

III. Selection Procedure

The Agency is also seeking names of organizations to participate in the selection of the nonvoting representative of the interests of the tobacco growers industry. Any industry organization interested in participating in the selection of an appropriate nonvoting member to represent growers industry interests should send a letter stating that interest to the FDA contact (see FOR FURTHER INFORMATION CONTACT) within 30 days of publication of this document (see DATES). Within the subsequent 30 days, FDA will send a letter to each organization that has expressed an interest in participating in the selection group, attaching a complete list of all organizations participating in selection; and a list of all nonvoting nominees along with their current résumés. The letter will also state that it is the responsibility of the interested organizations on the selection group to confer with one another and to select a candidate and an alternative as backup, within 60 days after the receipt of the FDA letter, to serve as the nonvoting member to represent growers industry interests for the TPSAC. The interested organizations are not bound by the list of nominees in selecting a candidate. However, if no individual is selected within 60 days, the Commissioner will select the nonvoting member to represent growers industry interests.

This notice is issued under the Federal Advisory Committee Act (5 U.S.C. 1001 et seq.) and part 14, relating to advisory committees.

Dated: April 29, 2024.
Lauren K. Roth,
Associate Commissioner for Policy.

[FR Doc. 2024-09532 Filed 5-1-24; 8:45 am]

BILLING CODE 4164-01-P